DEPARTMENT OF ENERGY

Federal Energy Regulatory Commission

Combined Notice of Filings #1

Take notice that the Commission received the following electric corporate filings:

Docket Numbers: EC14-78-004.

Applicants: NRG Energy, Inc., NRG Yield, Inc.

Description: Request for Reauthorization and Extension of Blanket Authorization of NRG Energy, Inc., et al.

Filed Date: 3/13/17.

Accession Number: 20170313-5370.

Comments Due: 5 p.m. ET 4/3/17.

Docket Numbers: EC17-90-000.

Applicants: AEP Generation Resources Inc., Dynegy Conesville, LLC, Dynegy Zimmer, LLC.

Description: Joint Application of AEP Generation Resources Inc., et al. for Authorization of Disposition of Jurisdictional Assets under Section 203 and Requests for Confidential Treatment, Shortened Comment Period and Expedited Approval.

Filed Date: 3/10/17.

Accession Number: 20170310-5300.

Comments Due: 5 p.m. ET 4/24/17.

Take notice that the Commission received the following electric rate filings:

Docket Numbers: ER17-1037-001.

Applicants: Innovative Solar 37, LLC.

Description: Tariff Amendment: Amendment to 1 to be effective 4/26/2017.

Filed Date: 3/15/17.

Accession Number: 20170315-5119.

Comments Due: 5 p.m. ET 4/5/17.

Docket Numbers: ER17-1176-000.

Applicants: Midcontinent Independent System Operator, Inc., Ameren Illinois Company.

Description: § 205(d) Rate Filing: 2017-03-14_SA 2686 Amended Ameren-SIPC Wholesale Connection Agreements to be effective 2/9/2017.

Filed Date: 3/14/17.

Accession Number: 20170314-5134.

Comments Due: 5 p.m. ET 4/4/17.

Docket Numbers: ER17-1184-000.

Applicants: Puget Sound Energy, Inc.

Description: Initial rate filing: DBINTC NITSA, NOA, and IA to be effective 3/1/2017.

Filed Date: 3/15/17.

Accession Number: 20170315-5092.

Comments Due: 5 p.m. ET 4/5/17.

Docket Numbers: ER17-1185-000.

Applicants: PJM Interconnection, L.L.C.

Description: § 205(d) Rate Filing: Notice of Cancellation of Service Agreement No. 3562 to be effective 12/9/2016.

Filed Date: 3/15/17.

Accession Number: 20170315-5099.

Comments Due: 5 p.m. ET 4/5/17.

Docket Numbers: ER17-1189-000.

Applicants: PJM Interconnection, L.L.C.

Description: § 205(d) Rate Filing: Notice of Cancellation of Service Agreement No. 3777, Queue No. Y1-003 to be effective 3/26/2017.

Filed Date: 3/15/17.

Accession Number: 20170315-5118.

Comments Due: 5 p.m. ET 4/5/17.

Docket Numbers: ER17-1190-000.

Applicants: PJM Interconnection, L.L.C.

Description: § 205(d) Rate Filing: Notice of Cancellation of Service Agreement No. 4546, Queue No. AB1-115 to be effective 4/8/2017.

Filed Date: 3/15/17.

Accession Number: 20170315-5122.

Comments Due: 5 p.m. ET 4/5/17.

Take notice that the Commission received the following PURPA 210(m)(3) filings:

Docket Numbers: QM17-3-000.

Applicants: East Kentucky Power Cooperative, Inc.

Description: Application to terminate QF purchase obligation of East Kentucky Power Cooperative, Inc.

Filed Date: 3/13/17.

Accession Number: 20170313-5366.

Comments Due: 5 p.m. ET 4/10/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 15, 2017.
Nathaniel J. Davis, Sr.,
Deputy Secretary.

[FR Doc. 2017-05546 Filed 3-20-17; 8:45 am]

BILLING CODE 6717-01-P